DEPARTMENT OF HEALTH AND HUMAN SERVICES

Centers for Disease Control and Prevention

[60Day-19-0987; Docket No. CDC-2019-0064]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Qualitative Information Collection on Emerging Diseases among the Foreign-born in the U.S. that enables CDC improve the planning and implementation of disease prevention and control strategies targeting communicable diseases and other emerging health issues among high-risk foreign-born communities in specific and limited geographic areas in the United States where high numbers of those populations live.

DATES: CDC must receive written comments on or before October 7, 2019.

ADDRESSES: You may submit comments, identified by Docket No. CDC-2019-0064 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Qualitative Information Collection on Emerging Diseases among the Foreign-born in the U.S. (OMB Control no. 0920-0987, Exp. 12/31/2019)—Extension—Division of Global Migration and Quarantine (DGMQ), National Center for Emerging Zoonotic and Infectious Diseases (NCEZID), Centers for Disease Control and Prevention (CDC).

Background and Brief Description

The Centers for Disease Control and Prevention (CDC), National Center for Emerging and Zoonotic Infectious Diseases (NCEZID), Division of Global Migration and Quarantine (DGMQ), requests approval for an extension of the current generic information collection Qualitative Information Collection on Emerging Diseases among the Foreign-born in the U.S.

This qualitative data collection is needed by DGMQ because foreign-born individuals are considered hard-to-reach populations and are often missed by routine information collection systems in the United States. As a consequence, limited information is available about the health status, knowledge, attitudes, health beliefs and practices related to communicable diseases and other emerging health issues (e.g., tuberculosis, parasitic diseases, lead poisoning, and mental health issues) among foreign-born populations in the United States. Foreign-born populations are very diverse in terms of countries of origin, socio-demographic, cultural and linguistic characteristics and geographic destinations in the U.S. Data is especially limited at the local level.

The purpose of the extension is to continue efforts to improve the agency's understanding of the health status, risk factors for disease, and other health outcomes among foreign-born individuals in the United States. Numerous types of data will be collected under the auspices of this generic information collection. These include, but are not limited to, knowledge, attitudes, beliefs, behavioral intentions, practices, behaviors, skills, self-efficacy, and health information needs and sources.

Under the terms of this generic, CDC will employ focus groups and key informant interviews to collect information. Depending on the specific purpose, the information collection may be conducted either in-person, by telephone, on paper, or online. For each generic information collection, CDC will submit to OMB the project summary and information collection tools.

CDC requests a total of 450 burden hours annually. The respondents to these information collections are foreign-born individuals in the United States. There is no cost to respondents other than the time required to provide the information requested.

Estimated Annualized Burden Hours
Type of respondents | Form name | Number of respondents | Number of responses per respondent | Average burden per response (in hours) | Total burden (in hours)
Foreign-born from specific country of birth in the United States | Screeners for focus groups (assuming 2 screenings for each recruited participant in focus groups) (150 × 2 = 300) | 300 | 1 | 10/60 | 50
Foreign-born from specific country of birth in the United States | Focus Groups (Approximately 15 focus groups/year and 10 participants per focus group) | 150 | 1 | 2 | 300
Foreign-born community leaders and staff from organizations serving those communities | Key informant interviews (Approximately 100 interviews/year) | 100 | 1 | 1 | 100
Total |  |  |  |  | 450

Jeffrey M. Zirger,
Lead, Information Collection Review Office, Office of Scientific Integrity, Office of Science, Centers for Disease Control and Prevention.

[FR Doc. 2019-16963 Filed 8-7-19; 8:45 am]

BILLING CODE 4163-18-P